DEPARTMENT OF THE INTERIOR

National Park Service

[NPS-WASO-NAGPRA-13514; PPWOCRADN0-PCU00RP14.R50000]

Notice of Inventory Completion: Maxey Museum, Walla Walla, WA

AGENCY: National Park Service, Interior.

ACTION: Notice.

SUMMARY: The Maxey Museum has completed an inventory of human remains in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Maxey Museum. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Maxey Museum at the address in this notice by September 16, 2013.

ADDRESSES: Gary Rollefson, Maxey Museum, Whitman College, 345 Boyer Avenue, Walla Walla, WA 99362, telephone (509) 527-4938, email rollefgo@whitman.edu.

SUPPLEMENTARY INFORMATION: Notice is here given in accordance with the Native American Graves Protection and Repatriation Act (NAGPRA), 25 U.S.C. 3003, of the completion of an inventory of human remains under the control of the Maxey Museum, Walla Walla, WA. The human remains were removed from the Whitman College Biology Department, Walla Walla County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Maxey Museum professional staff in consultation with representatives of Confederated Tribes and Bands of the Yakama Nation; Confederated Tribes of the Colville Reservation; Confederated Tribes of the Umatilla Indian Reservation (previously listed as the Confederated Tribes of the Umatilla Reservation, Oregon); Confederated Tribes of the Warm Springs Reservation of Oregon; Nez Perce Tribe (previously listed as Nez Perce Tribe of Idaho); and the Wanapum Band, a non-Federally recognized Indian group.

History and Description of the Remains

From May 2010 through May 2013, during the course of renovations in the laboratory storage facility of the Biology Department at Whitman College, in Walla Walla County, WA, the Biology Department asked the Maxey Museum at Whitman College to determine whether any of the human remains in the Biology Department's laboratory specimen teaching collections were Native American. Some of the human remains have been in the Biology Department's teaching collections since 1928. Due to the extensive dissection of the remains, it is difficult to determine the exact number of individuals represented in the collection. Maxey Museum NAGPRA Coordinator and Professor of Archaeology Gary Rollefson reviewed the human remains and determined that some of them might be Native American. In consultation with tribal representatives, the Maxey Museum conducted analysis to determine which, if any, human remains were Native American, as well as the cultural affiliation of those human remains identified as Native American.

The analysis resulted in a determination that the Biology Department's teaching collections included human remains representing, at minimum, 25 Native American individuals. The human remains were determined to be Native American through records kept upon their donation and by the nature of their antiquity. These Native American human remains were removed from the Biology Department and transferred to the Maxey Museum. No known individuals were identified. No associated funerary objects are present.

Many of the human remains have characteristics common to the Columbia River Plateau tribes, including occipital flattening, green residue staining from copper jewelry, and heavy tooth wear from eating foods that have been ground with stone tools or from eating foods that have been gritted with sand. Details about other characteristics can be found in reports dated May 2010, March 2013, and May 2013 on file at the Maxey Museum. Based upon the findings and characteristics described in these reports, the human remains have been determined to be culturally affiliated with the Columbia River Plateau tribes.

The Columbia River Plateau tribes are the Native people that used the lower Snake and Columbia Rivers jointly. Treaties were negotiated and signed with the Native communities during the expansion of the Washington and Oregon territories. The Native peoples in these United States territories were removed from the shores of the Columbia and Snake Rivers and their tributaries to the Colville, Umatilla, Yakama, Warm Springs, and Nez Perce reservations. These actions resulted in the splintering of family groups and the subsequent intermarriage of individual families from these reservations which further strengthened existing cultural affiliation between the bands and tribes. Cultural affiliation is further reinforced by living, enrolled members that have documented their ancestors buried along the lower Snake and Columbia Rivers. Today, the Columbia River Plateau tribes are represented by the Confederated Tribes and Bands of the Yakama Nation; Confederated Tribes of the Colville Reservation; Confederated Tribes of the Umatilla Indian Reservation (previously listed as the Confederated Tribes of the Umatilla Reservation, Oregon); Confederated Tribes of the Warm Springs Reservation of Oregon; Nez Perce Tribe (previously listed as Nez Perce Tribe of Idaho); and the Wanapum Band, a non-Federally recognized Indian group.

Determinations Made by the Museum

Officials of the Maxey Museum have determined that:

• Pursuant to 25 U.S.C. 3001(9), the human remains described in this notice represent the physical remains of a minimum of 25 individuals of Native American ancestry.

• Pursuant to 25 U.S.C. 3001(2), there is a relationship of shared group identity that can be reasonably traced between the Native American human remains and the Confederated Tribes and Bands of the Yakama Nation; Confederated Tribes of the Colville Reservation; Confederated Tribes of the Umatilla Indian Reservation (previously listed as the Confederated Tribes of the Umatilla Reservation, Oregon); Confederated Tribes of the Warm Springs Reservation of Oregon; Nez Perce Tribe (previously listed as Nez Perce Tribe of Idaho); and the Wanapum Band, a non-Federally recognized Indian group.

Additional Requestors and Disposition

Lineal descendants or representatives of any Indian tribe or Native Hawaiian organization not identified in this notice that wish to request transfer of control of these human remains should submit a written request with information in support of the request to Gary Rollefson, Maxey Museum, Whitman College, 345 Boyer Avenue, Walla Walla, WA 99362, telephone (509) 527-4938, email rollefgo@whitman.edu by September 16, 2013. After that date, if no additional requestors have come forward, transfer of control of the human remains to the Confederated Tribes and Bands of the Yakama Nation; Confederated Tribes of the Colville Reservation; Confederated Tribes of the Umatilla Indian Reservation (previously listed as the Confederated Tribes of the Umatilla Reservation, Oregon); Confederated Tribes of the Warm Springs Reservation of Oregon; Nez Perce Tribe (previously listed as Nez Perce Tribe of Idaho); and the Wanapum Band, a non-Federally recognized Indian group (if joined with one or more of these Indian tribes) may proceed.

The Maxey Museum is responsible for notifying the Confederated Tribes and Bands of the Yakama Nation; Confederated Tribes of the Colville Reservation; Confederated Tribes of the Umatilla Indian Reservation (previously listed as the Confederated Tribes of the Umatilla Reservation, Oregon); Confederated Tribes of the Warm Springs Reservation of Oregon; Nez Perce Tribe (previously listed as Nez Perce Tribe of Idaho); and the Wanapum Band, a non-Federally recognized Indian group, that this notice has been published.

Dated: July 23, 2013.
Sherry Hutt,
Manager, National NAGPRA Program.

[FR Doc. 2013-19993 Filed 8-15-13; 8:45 am]

BILLING CODE 4312-50-P